DEPARTMENT OF TRANSPORTATION

Federal Aviation Administration

Notice of Opportunity for Public Comment on Surplus Property Release at Savannah-Hilton Head International Airport, Savannah, Georgia

AGENCY: Federal Aviation Administration (FAA), DOT.

ACTION: Notice.

SUMMARY: Under the provisions of Title 49, U.S.C. 47153(c), notice is being given that the FAA is considering a request from the Savannah Airport Commission to waive the requirement that a 0.18-acre parcel of surplus property, owned and operated by the Savannah Airport Commission and located adjacent to Georgia Department of Transportation property, be used for aeronautical purposes.

DATES: Comments must be received on or before September 29, 2014.

ADDRESSES: Comments on this notice may be mailed or delivered in triplicate to the FAA at the following address: Atlanta Airports District Office, Attn: Aimee A. McCormick, Program Manager, 1701 Columbia Ave., Suite 2-260, Atlanta, GA 30337-2747.

In addition, one copy of any comments submitted to the FAA must be mailed or delivered to Greg Kelly, Airport Director of Savannah-Hilton Head International Airport at the following address: 400 Airways Avenue, Savannah, GA 31408.

FOR FURTHER INFORMATION CONTACT: Aimee McCormick, Program Manager, Atlanta Airports District Office, 1701 Columbia Ave., Suite 2-260, Atlanta, GA 30337-2747, (404) 305-7143. The application may be reviewed in person at this same location.

SUPPLEMENTARY INFORMATION: The FAA is reviewing a request by the Savannah Airport Commission to release 0.18 acres of surplus property at the Savannah-Hilton Head International Airport. The property will be purchased with intent for public roadway improvements and take over of long term maintenance. The location of the the land relative to existing or anticipated aircraft noise contours greater than 65ldn are not considered to be an issue. The net proceeds from the sale of this property will be used for airport purposes. The proposed use of this property is compatible with airport operations.

Any person may inspect the request in person at the FAA office listed above under FOR FURTHER INFORMATION CONTACT.

In addition, any person may, upon request, inspect the request, notice and other documents germane to the request in person at the Savannah-Hilton Head International Airport.

Issued in Atlanta, Georgia on August 19, 2014.
Larry F. Clark,
Manager, Atlanta Airports District Office, Southern Region.

[FR Doc. 2014-20693 Filed 8-28-14; 8:45 am]

BILLING CODE 4910-13-P